DEPARTMENT OF TRANSPORTATION

Federal Aviation Administration

Proposed Standard Operating Procedure (SOP) of the Aircraft Certification Service (AIR) Project Prioritization and Resource Management

ACTION: Notice of availability and request for public comment.

SUMMARY: This notice announces the availability of, and request for public comments on, the Aircraft Certification Service (AIR) standard operating procedure (SOP) describing the process used to prioritize certification projects and manage certification project resources when local resources are not available.

DATES: Comments must be received on or before July 2, 2013.

ADDRESSES: Send all comments on the SOP to: Federal Aviation Administration (FAA) Aircraft Certification Service, Aircraft Engineering Division, 950 L'Enfant Plaza SW., 5th Floor, SW., Washington, DC 20024. Attn: Graham Long, AIR-103. You may deliver comments to: Federal Aviation Administration, 950 L'Enfant Plaza, 5th Floor, SW., Washington, DC 20024, or electronically submit comments to the following Internet address: 9-AWA-AVS-AIR-103-SOP@faa.gov. Include in the subject line of your message the following: SOP: AIR-100-001; Standard Operating Procedure—Aircraft Certification Service Project Prioritization.

FOR FURTHER INFORMATION CONTACT: Graham Long, Aerospace Engineer, Federal Aviation Administration, Aircraft Certification Service, Aircraft Engineering Division, Technical and Administrative Support Branch, AIR-103, 950 L'Enfant Plaza, 5th Floor, SW., Washington, DC 20024. Telephone (202) 385-6319, FAX (202) 385-6475.

SUPPLEMENTARY INFORMATION:

Comments Invited

You are invited to comment on the SOP for the prioritization of certification projects listed in this notice by sending such written data, views, or arguments to the above listed address. Please identify “SOP: AIR-100-001 Standard Operating Procedure—Aircraft Certification Service Project Prioritization” as the subject of your comments. You may also examine comments received on the SOP before and after the comment closing date at the FAA's Aircraft Engineering Division office located at 950 L'Enfant Plaza, 5th Floor, SW., Washington, DC 20024, weekdays except Federal holidays, between 8:30 a.m. and 4:30 p.m. The Director of the Aircraft Certification Service will consider all communications received on or before the closing date before issuing the final document.

Background

In 2005, the Federal Aviation Administration instituted a project sequencing process to manage our limited resources to address both continued operational safety and certification project work. In 2011, the existing SOP for Project Sequencing was made available for public comment. As a result of comments received, a completely new SOP has been developed that is intended to replace the existing SOP. This SOP documents the process used for all certification projects worked in AIR's Aircraft Certification Offices (ACOs). The certification programs include: Type certificate (TC), Amended Type Certificate (ATC), Supplemental Type Certificated ATC), Amended Supplemental Type Certificate (ASTC), and Parts Manufacturer Approval (PMA) accomplished by test and computation. This SOP defines that all projects are initiated in the geographical ACO when the application is received. The FAA applies this process to determine the project priority, and identifies related task response time. Lower priority projects may have task response time extended within limits when AIR resources are unable to support. The SOP provides for a national forum for AIR managers to identify and obtain support to accomplish specific project tasks while not diverting resources from activities supporting our safety mission of ensuring continued operational safety of the existing fleet. The FAA is publishing the SOP to ensure transparency of the existing sequencing process and to solicit feedback on how the process can be improved.

How To Obtain Copies

You can get an electronic copy of the Standard Operating Procedure—Aircraft Certification Service Project Prioritization, via the Internet at http://www.faa.gov/aircraft/draft_docs/, and then select Policy, or by contacting the person named in the paragraph FOR FURTHER INFORMATION CONTACT.

Issued in Washington, DC, on April 29, 2013.
Susan J.M. Cabler,
Assistant Manager, Aircraft Engineering Division, Aircraft Certification Service.

[FR Doc. 2013-10433 Filed 5-2-13; 8:45 am]

BILLING CODE 4910-13-P